Title 3—

The President

Proclamation 11003 of January 16, 2026

Religious Freedom Day, 2026

By the President of the United States of America

A Proclamation

For 250 years, our Nation and our people have abided by a simple truth: Every person is born with the God-given right to practice their faith, follow their conscience, and worship their God freely and without fear. This Religious Freedom Day, we honor America's distinct place in the halls of history as the only Republic ever founded upon this sacred principle—and we renew our commitment to upholding our proud legacy as one glorious Nation under God.

More than 400 years ago, a band of weary settlers set sail on a perilous journey across the Atlantic on the Mayflower in search of religious liberty—setting in motion the most epic struggle for freedom and faith in the history of the world. Over a century later, following a bloody Revolutionary War fought to secure our God-given rights, the Virginia General Assembly moved to dismantle the tyrannical laws of the British Crown and replace them with statutes worthy of a free people. From that effort emerged the legendary Virginia Statute for Religious Freedom. In that historic declaration, Founding Father Thomas Jefferson proclaimed that God “created the mind to be free” and that every individual “shall be free to profess their opinion in matters of religion.” These principles, codified into Virginia law on January 16, 1786, later became the foundation of our First Amendment, immortalizing in ink the free exercise of faith.

This year, as we celebrate the 250th anniversary of American independence, my Administration is boldly bringing faith back to the public square because the freedom of religion means the freedom to practice your religion proudly, publicly, and without fear of persecution. As President, I am leading a renewal of faith in our schools, military, workplaces, hospitals, and halls of Government because the revolution of common sense is incomplete without a resurgence of faith in God. To further strengthen families and protect religious freedom, I established the White House Faith Office and the Religious Liberty Commission. I also proudly established a Task Force to Eradicate Anti-Christian Bias, which is charged with identifying and eliminating all anti-Christian policies, practices, and conduct in executive departments and agencies. I directed the Department of Education to protect the foundational First Amendment right to prayer in public schools. And as part of my Administration's historic Freedom 250 initiative, we launched America Prays—an invitation to Americans of every background to join together in prayer for wisdom, guidance, and blessing as our Republic enters its next great chapter.

From the establishment of the Jamestown Colony to the Pilgrims' arrival at Plymouth Rock, through periods of war and peace and through every challenge and every triumph, religious faith has indelibly shaped our character, informed our laws, and strengthened our national spirit. This Religious Freedom Day, I pledge that I will never stop fighting to restore America as a Nation of prayer, a country of faith, and a radiant beacon of liberty and justice for all.

NOW, THEREFORE, I, DONALD J. TRUMP, President of the United States of America, by virtue of the authority vested in me by the Constitution and the laws of the United States, do hereby proclaim January 16, 2026, as Religious Freedom Day. I call on all Americans to commemorate this day with events and activities that honor our Nation's proud history of religious freedom, and I especially encourage families to gather at places of worship to praise Almighty God for the blessings of liberty He has bestowed on our great country.

IN WITNESS WHEREOF, I have hereunto set my hand this sixteenth day of January, in the year of our Lord two thousand twenty-six, and of the Independence of the United States of America the two hundred and fiftieth.

[FR Doc. 2026-01270

Filed 1-21-26; 11:15 am]

Billing code 3395-F4-P